DEPARTMENT OF COMMERCE

National Oceanic and Atmospheric Administration

[I.D. 030105G]

Fisheries of the Exclusive Economic Zone Off Alaska; Notice of Crab Rationalization Program Quota Share and Processor Quota Share Application Period

AGENCY: National Marine Fisheries Service (NMFS), National Oceanic and Atmospheric Administration (NOAA), Commerce.

ACTION: Notice of application period.

SUMMARY: NMFS will accept applications to receive quota share (QS) and processor quota share (PQS) for the Crab Rationalization Program (Program) from participants in the Bering Sea and Aleutian Islands (BSAI) king and Tanner crab fisheries through June 3, 2005, consistent with the regulations implementing the program. Any applications received by NMFS after this date will be considered untimely and will be denied.

DATES: Applications to receive QS and PQS under the Crab Rationalization Program will be accepted by NMFS from April 4, 2005, through 5 p.m. Alaska local time (A.l.t) on June 3, 2005.

ADDRESSES: An application to receive crab QS or PQS may be submitted by mail to NMFS, Alaska Region, Restricted Access Management, P.O. Box 21668, Juneau, AK 99802, by facsimile (907-586-7354), or by hand delivery to the NMFS, 709 West 9th Street, room 713, Juneau, AK.

SUPPLEMENTARY INFORMATION: NMFS published a final rule implementing the Crab Rationalization Program (Program) as authorized under Amendments 18 and 19 to the Fishery Management Plan for Bering Sea/Aleutian Islands King and Tanner Crabs March 2, 2005 (70 FR 10173).

Section 680.20(f)(1)(iii) of the final rule notes that NMFS will specify the application period for crab QS and PQS in the Federal Register and any applications received after this date will be considered untimely and denied. This notice specifies A 60-day application period. This 60-day application period was referenced in the proposed rule published on October 29, 2004, to implement the Program (69 FR 63223). This 60-day application period is consistent with the intent of the final rule to provide adequate time for participants in the crab fisheries to review the final rule and prepare materials necessary for the application process specified in § 680.40(f)(2). This application period will provide NMFS with sufficient time to process applications and issue QS and PQS for crab fisheries occurring later in 2005.

Applications to receive QS or PQS may be received by contacting NMFS (see ADDRESSES) or by downloading at http://www.fakr.noaa.gov.

Dated: March 2, 2005.
Alan D. Risenhoover
Acting Director, Office of Sustainable Fisheries, National Marine Fisheries Service.

[FR Doc. 05-4476 Filed 3-7-05; 8:45 am]

BILLING CODE 3510-22-S